DEPARTMENT OF COMMERCE

National Oceanic and Atmospheric Administration

50 CFR Part 679

[Docket No. 010112013-1168-06; I.D. 011101B]

RIN 0648-A082

Fisheries of the Exclusive Economic Zone Off Alaska; Steller Sea Lion Protection Measures and 2001 Harvest Specifications and Associated Management Measures for the Groundfish Fisheries Off Alaska; Correction

AGENCY: National Marine Fisheries Service (NMFS), National Oceanic and Atmospheric Administration (NOAA), Commerce.

ACTION: Emergency interim rule; correction.

SUMMARY: This document corrects the July 17, 2001, emergency interim rule by adding footnote reference numbers and their corresponding footnotes, which were inadvertently omitted or published with errors to tables in the preamble and in the regulatory text.

DATES: Effective July 18, 2001, through December 31, 2001.

FOR FURTHER INFORMATION CONTACT: Melanie Brown, NMFS, 907-586-7228 or e-mail at melanie.brown@noaa.gov.

SUPPLEMENTARY INFORMATION: The emergency interim rule that was published July 17, 2001 (66 FR 37167), implements Steller sea lion protection measures and announces final 2001 harvest specifications for the groundfish fisheries of the Bering Sea and Aleutian Islands Area and the Gulf of Alaska. As published, the final regulations contain errors that need to be corrected in Tables 7 and 27 to the preamble and in Tables 21 through 24 to 50 CFR part 679 by adding footnote reference numbers and footnotes.

Table 7 to the preamble inadvertently omitted a footnote. Table 27 to the preamble, which lists the final 2001 GOA groundfish harvest limitations (sideboards), inadvertently omitted entries for pollock C Season and D Season. That portion of Table 27 is reprinted in this document.

Tables 21 through 24 to 50 CFR part 679 are corrected by this document and are reprinted in their entirety.

Correction

Accordingly, in the emergency interim rule published on July 17, 2001 (66 FR 37167), FR Doc. 01-17850, is corrected as follows:

1. In Table 7 to the preamble, page 37173:

a. In the first column under the fourth entry from the top, “Hook-and-line Catcher Processors (≥ 60 ft LOA)” add a footnote reference number “3” to read: “Hook-and-line Catcher Processors (≥ 60 ft LOA)³”, and

b. Add the footnote at the end of Table 7 to read as follows: “³Harvest of Pacific cod made by catcher processors less than 60 ft LOA using hook-and-line gear will accrue to the 80 percent allocation under § 679.20(a)(7)(i)(C)(1)(i) when the other non-trawl halibut mortality bycatch allowance becomes available on August 1, 2001.”

2. In Table 27 to the preamble, page 37176:

a. Correct the spelling of the second entry “Pacific code” to read: “Pacific cod”.

b. The following entries, which were inadvertently omitted from “Pollock”, “C Season (W/C areas only)” are added in this document. This portion of Table 27 should be inserted between the entries “Pollock” and “Pacific cod”:

Table 27—Final 2001 GOA Non-Exempt AFA Catcher Vessel (CV) Groundfish Harvest Limitations (Sideboards). (Values are in mt)
Species | Apportionments and allocations by area/season/processor/gear | Ratio of 1995-1997 Non-Exempt AFA CV catch to 1995-1997 TAC | 2001 TAC | 2001 Non-Exempt AFA catcher vessel sideboard
* * * * * * *
Pollock | C Season (W/C areas only) |  |  |
| August 20 - September 15 |  |  |
| Shumagin (610) | 0.6238 | 10,998 | 6,861
| Chirikof (620) | 0.1262 | 6,546 | 826
| Kodiak (630) | 0.1984 | 8,610 | 1,708
| D Season (W/C areas only) |  |  |
| October 1-November 1 |  |  |
| Shumagin (610) | 0.6238 | 9,165 | 5,717
| Chirikof (620) | 0.1262 | 5,465 | 688
| Kodiak (630) | 0.1984 | 7,175 | 1,424
| Annual |  |  |
| WYK (640) | 0.3642 | 2,235 | 814
| SEO (650) | 0.3642 | 6,460 | 2,353
* * * * * * *

Table 21 to 50 CFR Part 679 [Corrected]

3. Table 21 to part 679, beginning on page 37183, is correctly revised to read as follows:

BILLING CODE 3510-22-S

Table 22 to 50 CFR Part 679 [Corrected]

4. Table 22 to part 679, beginning on page 37187, is correctly revised to read as follows:

Table 23 to Part 679 [Corrected]

5. Table 23 to part 679, beginning on page 37189, is correctly revised to read as follows:

Table 24 to Part 679 [Corrected]

6. Table 24 to part 679, beginning on page 37192, is correctly revised to read as follows:

Authority: 16 U.S.C. 1801 et seq.

Dated: August 14, 2001.
William T. Hogarth,
Acting Assistant Administrator for Fisheries, National Marine Fisheries Service.

[FR Doc. 01-21205 Filed 8-21-01; 8:45 am]

BILLING CODE 3510-22-C